DEPARTMENT OF THE INTERIOR

Fish and Wildlife Service

Proposed Holland Properties Safe Harbor Agreement, Orange County, FL

AGENCY: Fish and Wildlife Service, Interior.

ACTION: Notice.

This notice advises the public that Holland Properties Inc. (Applicant), has applied to the Fish and Wildlife Service (Service) for an enhancement of survival permit (permit) pursuant to section 10(a)(1)(A) of the Endangered Species Act of 1973, as amended (16 U.S.C. 1539 et seq.). The permit application includes a proposed Safe Harbor Agreement (Agreement) for the endangered red-cockaded woodpecker (Picoides borealis) (Woodpecker) for a period of 30 years.

We (the Service) announce the opening of a 30-day comment period and request comments from the public on the Applicant's enhancement of survival permit application and the accompanying proposed Agreement. All comments we receive, including names and addresses, will become part of the administrative record and may be released to the public. For further information and instructions on reviewing and commenting on this application, see the ADDRESSES section, below.

DATES: Written comments should be received on or before December 8, 2006.

ADDRESSES: You may obtain a copy of the information available by contacting the Service's Regional Safe Harbor Coordinator, U.S. Fish and Wildlife Service, 1875 Century Boulevard, Suite 200, Atlanta, Georgia 30345, or Field Supervisor, U.S. Fish and Wildlife Service, 6620 Southpoint Drive S., Suite 310, Jacksonville, Florida 32216. Alternatively, you may set up an appointment to view these documents at either location during normal business hours. Written data or comments should be submitted to the Atlanta, Georgia, Regional Office. Requests for the documentation must be in writing to be processed, and comments must be written to be considered.

FOR FURTHER INFORMATION CONTACT: Mr. Rick Gooch (telephone: 404/679-7124; facsimile: 404/679-7081), or Ms. Annie Dziergowski (telephone: 904/232-2580; facsimile: 904/232-2404).

SUPPLEMENTARY INFORMATION: Under a safe harbor agreement, a participating property owner voluntarily undertakes management activities on its property to enhance, restore, or maintain habitat benefiting species listed under the Endangered Species Act. Agreements encourage private and other non-Federal property owners to implement conservation efforts for listed species by assuring them they will not be subjected to increased property use restrictions if their efforts attract listed species to their property or increase the numbers of listed species already on their property. Application requirements and issuance criteria for enhancement of survival permits through safe harbor agreements are found in 50 CFR 17.22 and 17.32.

We have worked with the Applicant to design conservation measures intended to benefit the Woodpecker on about 3,863 acres of pine-dominated forest in southern Orange County. Under the Agreement, the Applicant will undertake the following actions: (1) Implement a prescribed fire program designed to maintain and enhance pine stand characteristics suitable for the Woodpecker; (2) implement forest management actions to enhance existing pine stocking densities and reduce hardwood canopies; (3) enhance future pine stocking densities by planting; (4) enhance existing Woodpecker clusters through construction of artificial cavities; (5) create potential new cluster sites using artificial cavity inserts; and (6) translocate individual Woodpeckers within the enrolled property to enhance pair-bond formation and establish new groups.

The Applicant's property currently supports seven clusters of Woodpeckers. Conservation measures proposed by the Applicant will enhance existing habitat conditions and contribute to the continued survival of the seven Woodpecker clusters currently residing on the property. In addition, the Applicant intends to similarly manage unoccupied habitat in a similar manner that will create suitable habitat for Woodpeckers. The Applicant anticipates that the proposed conservation measures will lead to additional groups of Woodpeckers inhabiting the enrolled property. Without the proposed Agreement, it would not be possible for the Applicant to undertake the proposed conservation measures and receive regulatory assurances from the Service through the Endangered Species Act.

Consistent with the Service's Safe Harbor policy and implementing regulations, we propose to issue a permit to the Applicant authorizing the incidental take of Woodpeckers, that occur on the enrolled lands through lawful activities on the enrolled land, as long as baseline conditions are maintained and terms of the Agreement are implemented. Future activities of the Applicant could result in a return to the baseline condition, but the Applicant has indicated that a return to baseline condition is not anticipated.

This Notice also advises the public that the Service has made a preliminary determination that issuance of the enhancement of survival permit will not result in significant impacts to the human environment and is, therefore, categorically excluded from review under the National Environmental Policy Act of 1969, as amended (42 U.S.C. 4331 et seq.) (NEPA), pursuant to 516 Departmental Manual 2, Appendix 1 and 516 Departmental Manual 6, Appendix 1. This Notice is provided pursuant to Section 10 of the Endangered Species Act. The Service specifically requests information, views, and opinions from the public.

We will evaluate the proposed Agreement, associated documents, and comments submitted by the public to determine whether the requirements of Section 10(a) of the Endangered Species Act and NEPA regulations have been met. If we determine that the requirements are met, we will issue an enhancement of survival permit under Section 10(a)(1)(A) of the Endangered Species Act to the Applicant in accordance with the terms of the Agreement and specific terms and conditions of the authorizing permit. We will not make our final decision until the end of the 30-day comment period and will fully consider all comments received during the comment period.

Dated: October 18, 2006.
Jeffrey M. Fleming,
Southeast Region, Acting Regional Director.

[FR Doc. E6-18827 Filed 11-7-06; 8:45 am]

BILLING CODE 4310-55-P